DEPARTMENT OF COMMERCE

Foreign-Trade Zones Board

[Docket 19-2003]

Foreign-Trade Zone 82—Mobile, AL; Application for Expansion

An application has been submitted to the Foreign-Trade Zones (FTZ) Board (the Board), by the City of Mobile, Alabama, grantee of Foreign-Trade Zone 82, requesting authority to expand its zone in Mobile, Alabama, within the Mobile Customs port of entry. The application was submitted pursuant to the provisions of the Foreign-Trade Zones Act, as amended (19 U.S.C. 81a-81u), and the regulations of the Board (15 CFR part 400). It was formally filed on April 11, 2003.

FTZ 82 was approved on February 24, 1983 (Board Order 208, 48 FR 9052, 3/3/83) and expanded on February 27, 1990 (Board Order 464, 55 FR 8159, 3/7/90). The general-purpose zone currently consists of one site (1,035 acres) at the Brookley Complex and Brookley Airport in Mobile.

The applicant is now requesting authority for a major expansion of the zone as described below. The proposal requests authority to expand Site 1 to include additional areas and to include 12 additional sites along the Mobile Bay industrial corridor.

Existing Site1—Brookley Complex and Brookley Airport (1,035 acres)—expand to include an additional 908 acres within the entire 4,636-acre Mobile port and riverfront industrial complex (new total: 1,943 acres);

Proposed Site 2—3,169 acres within the 5,051-acre LeMoyne Industrial Park, located on US Highway 43 in North Mobile County;

Proposed Site 3—70 acres within the 289-acre Mobile River Industrial Park, located immediately adjacent to the U.S. Highway 43, City of Saraland;

Proposed Site 4—34 acres at the Frisco Industrial Park, located on Craft Highway, Cities of Mobile and Prichard;

Proposed Site 5—120 acres at the Wolf Ridge Industrial Park, located near the intersection of U.S. Highway 43 and Interstate 65, City of Prichard;

Proposed Site 6—300 acres at the Mobile Commerce Park, located on State Highway 193 in Mobile County;

Proposed Site 7—3,364 acres within the 5,458-acre Theodore Industrial Complex, located on the western shore of Mobile Bay;

Proposed Site 8—247 acres within the 673-acre Bayou la Batre Waterfront Complex, located within the city limits of Bayou la Batre;

Proposed Site 9—221 acres within the 357-acre Loxley Industrial Park, located near County Highway 49, City of Loxley;

Proposed Site 10—103 acres within the 108-acre Robertsdale Industrial Park, located just east of State Highway 59 and south of County Highway 54, Robertsdale;

Proposed Site 11—171 acres within the 616-acre Fairhope Industrial Complex, located immediately adjacent to U.S. Highway 98, Fairhope;

Proposed Site 12—106 acres within the 110-acre Gulf Shores Industrial Park, located immediately adjacent to the Jack Edwards Airport, City of Gulf Shores; and,

Proposed Site 13—27 acres within the 53-acre Foley-Gopher Hill Commerce Park, located on County Road 24, Foley.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is June 20, 2003. Rebuttal comments in response to material submitted during the foregoing period may be submitted during the subsequent 15-day period (to July 7, 2003).

A copy of the application and accompanying exhibits will be available for public inspection at the Office of the Foreign-Trade Zones Board's Executive Secretary at the first address listed above, and at the Office of the City Clerk, City of Mobile, 9th Floor, South Tower, Government Plaza, 205 Government Street, Mobile, AL 36602.

Dated: April 15, 2003.
Dennis Puccinelli,
Executive Secretary.

[FR Doc. 03-9743 Filed 4-18-03; 8:45 am]

BILLING CODE 3510-DR-P